ENVIRONMENTAL PROTECTION AGENCY

40 CFR Part 52

[EPA-R06-OAR-2013-0614; FRL-9935-53-Region 6]

Approval and Promulgation of Air Quality Implementation Plans; New Mexico; Albuquerque/Bernalillo County; Revisions to State Boards and Conflict of Interest Provisions

AGENCY: Environmental Protection Agency (EPA).

ACTION: Direct final rule.

SUMMARY: The Environmental Protection Agency (EPA) is approving revisions to the Albuquerque/Bernalillo County, New Mexico State Implementation Plan (SIP). These revisions add administrative updates and clarifying changes to the state board and conflict of interest provisions in Albuquerque/Bernalillo County. The EPA is approving these revisions pursuant to section 110 of the Clean Air Act (CAA).

DATES: This rule is effective on December 21, 2015 without further notice unless EPA receives relevant adverse comments by November 19, 2015. If EPA receives such comments, EPA will publish a timely withdrawal in the Federal Register informing the public that the rule will not take effect.

ADDRESSES: Submit your comments, identified by Docket ID No. EPA-R06-OAR-2013-0614, by one of the following methods:

• www.regulations.gov. Follow the on-line instructions.

• Email: Mr. John Walser at walser.john@epa.gov. Please also send a copy by email to the person listed in the FOR FURTHER INFORMATION CONTACT section below.

• Mail or Delivery: Mr. Guy Donaldson, Chief, Air Planning Section (6PD-L), Environmental Protection Agency, 1445 Ross Avenue, Suite 1200, Dallas, Texas 75202-2733.

Instructions: Direct your comments to Docket ID No. EPA-R06-OAR-2013-0614. EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at www.epa.gov/epahome/dockets.htm.

Docket: All documents in the docket are listed in the www.regulations.gov index and in hard copy at EPA Region 6, 1445 Ross Avenue, Suite 700, Dallas, Texas. While all documents in the docket are listed in the index, some information may be publicly available only at the hard copy location (e.g., copyrighted material), and some may not be publicly available at either location (e.g., CBI).

FOR FURTHER INFORMATION CONTACT: Mr. John Walser (6PD-L), (214) 665-7128, walser.john@epa.gov.

SUPPLEMENTARY INFORMATION: Throughout this document, “we,” “us,” and “our” means EPA.

Table of Contents

I. Background

A. What is a SIP?

B. State Boards

II. Overview of the June 13, 2013 State Submittal

III. EPA's Evaluation of the Submittal

IV. Final Action

V. Statutory and Executive Order Reviews

I. Background

A. What is a SIP?

Section 110 of the CAA requires states to develop air pollution regulations and control strategies to ensure that air quality meets the National Ambient Air Quality Standards (NAAQS) established by EPA. The NAAQS are established under section 109 of the CAA and currently address six criteria pollutants: Carbon monoxide, nitrogen dioxide, ozone, lead, particulate matter, and sulfur dioxide. A SIP is a set of air pollution regulations, control strategies, other means or techniques, and technical analyses developed by the state, to ensure that air quality in the state meets the NAAQS. It is required by section 110 and other provisions of the CAA. A SIP protects air quality primarily by addressing air pollution at its point of origin. SIPs can be extensive, containing state regulations or other enforceable documents, and supporting information such as city and county ordinances, monitoring networks, and modeling demonstrations. Each state must submit any SIP revision to EPA for approval and incorporation into the federally-enforceable SIP.

The New Mexico SIP includes a variety of control strategies, including the regulations that outline general provisions applicable to Albuquerque/Bernalillo County Air Quality Control Board (AQCB) regulations and state boards/conflict of interest requirements.

B. State Boards

The Act, section 128(a) entitled State Boards, requires each SIP to contain provisions which ensure that: (1) Any board or body which approves permits or enforcement orders under the Act shall have at least a majority of members who represent the public interest and do not derive any significant portion of their income from persons subject to permits or enforcement orders under the Act, and (2) any potential conflicts of interest by members of such board or body, or the head of an executive agency with similar powers, be adequately disclosed.

A state may adopt any requirements respecting conflicts of interest for such boards or bodies or heads of executive agencies, or any other entities which are more stringent than the requirements of paragraphs (1) and (2), and the Administrator shall approve any such more stringent requirements submitted as part of an implementation plan.¹

¹ Also see Pages 39 through 43 of EPA guidance, dated September 13, 2013 entitled “Guidance on Infrastructure State Implementation Plan (SIP) Elements under Clean Air Act Sections 110(a)(1) and 110(a)(2),” which may be accessed in the docket for this rulemaking at http://www.regulations.gov, Docket No. EPA-R06-OAR-2013-0614.

The New Mexico Air Quality Control Act (section 74-2-4) authorizes Albuquerque/Bernalillo County to locally administer and enforce the State Air Quality Control Act by providing for a local air quality control program. Thus, State law views Albuquerque/Bernalillo County and the remainder of the State of New Mexico as distinct air quality control entities. Therefore, each entity is required to submit its own SIP revision in order to completely satisfy the requirements of section 128(a) of the Clean Air Act for the entire State of New Mexico.

The EPA approved the SIP revision for Board composition and conflict of interest disclosure requirements on June 1, 1999 (see 64 FR 29235). Since that time the supporting city and county ordinances have been revised.

II. Overview of the June 13, 2013 State Submittal

The revisions we are approving address City of Albuquerque and Bernalillo County, Code of Ordinances governing Air Quality Control Board (AQCB) composition and conflict of interest provisions required to meet the requirements of section 128(a) of the CAA. These revisions are mostly administrative in nature and/or add clarifying language to the City of Albuquerque and Bernalillo County Ordinances already contained in the SIP. These ordinances and revisions do not apply to Indian lands over which the AQCB lacks jurisdiction. We have prepared a Technical Support Document (TSD) for this action which details our evaluation. Our TSD may be accessed in the docket for this action, at http://www.regulations.gov, Docket No. EPA-R06-OAR-2013-0614.

We are also approving a ministerial change to the Code of Federal Regulations (CFR) at 40 CFR 52.1620(e). The entry titled “City of Albuquerque request for redesignation” was mistakenly placed in the first table of 40 CFR 52.1620(e) under the heading “EPA Approved city of Albuquerque and Bernalillo County Ordinances for State Board Composition and Conflict of Interest Provisions” and belongs in the second table of 40 CFR 52.1620(e) under the heading “EPA-Approved Nonregulatory Provisions and Quasi-Regulatory Measures in the New Mexico SIP.”

On June 13, 2013, New Mexico submitted revisions to the Albuquerque/Bernalillo County SIP. The submittal was adopted consistent with the public notice SIP requirements of CAA section 110(l). The revisions modified various chapters to the City of Albuquerque and Bernalillo County ordinances for the Air Quality Control Board and the Metropolitan Environmental Health Advisory Board. The revisions include all the adopted changes to the ordinances since the last EPA SIP approval in June of 1999. Changes to the ordinances include adding clarifying text regarding conflict of interest, renumbering to account for changes to subsections and other ministerial changes that reflect the correct citations to currently effective versions of the ordinances in use today. Other minor amendments are added or deleted for further clarification. Please see Table 1 below for the list of ordinances, and the TSD for further details:

Table 1—City of Albuquerque and Bernalillo County Ordinances for State Board Composition and Conflict of Interest Provisions
Exhibit | Description
Exhibit 2c | Metropolitan Environmental Health Advisory Board, City of Albuquerque, Chapter 9, Article 5, Part 6.
Exhibit 3c | Metropolitan Environmental Health Advisory Board, Bernalillo County Code of Ordinances, Chapter 42, Article II, Sections 42-36 to 42-39.
Exhibit 4c | Metropolitan Environmental Health Advisory Board, Bernalillo County Code of Ordinances, Chapter 42, Article II, Sections 42-36 through 42-40.
Exhibit 5c | Joint Air Quality Control Board Ordinance, City of Albuquerque, Chapter 9, Article 5, Part 1.
Exhibit 6c | Joint Air Quality Control Board Ordinance, Bernalillo County Code of Ordinances, Chapter 30, Article II.
Exhibit 7c | Public Boards, City of Albuquerque Chapter 1, Article XII Sections 1-12-1 to 3.
Exhibit 8c | Conflict of Interest, City of Albuquerque Chapter 2, Article III Sections 3-3-1 to 13.
Exhibit 9c | Code of Ethics, City of Albuquerque Charter, Article XII, Section 4.
Exhibit 10c | Code of Ethics, Bernalillo County Code of Ordinances, Chapter 2, Article III, Division 4—Code of Ethics, Sections 2-126 to 2-136.
Exhibit 11c | City Code of Conduct, City of Albuquerque, Personnel Rules & Regulations.

The Governor's letter dated June 26, 2013 accompanying the submittal indicated that only those portions or sections of the ordinances dealing with state boards or conflict of interest are being submitted for EPA review and action. Therefore, the following revisions, as shown in Table 1 above, are not being considered before EPA for review as they do not address board composition or conflict of interest provisions. The ordinances not being proposed include Exhibit 7c—Article 6: Public Boards, Commissions and Committees and Exhibit 11c—City Code of Conduct, City of Albuquerque, as these ordinances involve personnel rules and regulations, conditions of employment, the conduct and organizational structure of a board, commission or committee and do not specifically address board composition and conflict of interest pursuant to CAA section 128.

Additionally, since the Metropolitan Environmental Health Advisory Board (MEHAB) has effectively ceased to function for over 25 years, as confirmed with the City of Albuquerque,² the MEHAB ordinances are not legally required or practicably necessary for the continued operation of the AQCB or the City of Albuquerque Environmental Health Department. Therefore, Exhibits 2c, 3c and 4c, dealing with the MEHAB (see Table 1 above), are not applicable to the AQCB and are not considered as a basis for this action.

² Emails from Ed Merta, City of Albuquerque, Environmental Health Department, dated August 28, 2015 and September 10, 2015 may be accessed in the docket for this action.

The remaining Exhibits 5c (only Section 9-5-1-3), 6c (only section 30-32), 8c, 9c, and 10c all involve state boards or conflict of interest and are being considered part of this action.

Our evaluation of the submittal finds that the submitted SIP revisions were adopted by Albuquerque/Bernalillo County after reasonable notice, a public comment period, a corresponding public hearing, and that approval of the revisions would not interfere with any CAA requirement, are consistent with the requirements of section 128 of the CAA (see background section of this notice), and are approvable, as discussed below.

III. EPA's Evaluation of the Submittal

Our primary consideration for determining the approvability of the New Mexico submittal is whether these proposed revisions comply with CAA section 110(l) and 128 of the CAA. Section 110(l) of the Act provides that a SIP revision must be adopted by a State after reasonable notice and public hearing. The submitted revisions address the City of Albuquerque and Bernalillo County, Code of Ordinances governing Air Quality Control Board (AQCB) composition and conflict of interest provisions that address the requirements of Section 128 of the CAA. Please see the TSD for our detailed evaluation.

The submitted revisions update the currently the SIP approved versions, and includes revisions that are ministerial in nature and mostly involve renumbering and additions/deletions that add further clarity.

Revisions to Ordinances for the Joint Air Quality Control Board, Conflict of Interest and Code of Ethics

The AQCB is submitting revisions to update the SIP to incorporate the latest City of Albuquerque and Bernalillo County Ordinances and policies regarding board composition and conflict of interest as it applies to the Air Board. The previous SIP-approval dates back to 1999. The proposed revisions incorporate into the SIP with the most current versions of affected ordinances and policies concerning state board composition and conflict of interest.

For Exhibit 5c, the ordinance that deals with the Joint Air Quality Control Board, the revisions in section 9-5-1-3 highlight the requirements for state boards and conflict of interest provisions consistent with federal requirements found in CAA section 128(a)(1). Section 9-5-1-3(B)(4)(a) of Exhibit 5c states that “at least a majority of the membership of the Board shall be individuals who represent the public interest and meet the requirements of the state and federal guidelines set forth in the New Mexico Air Quality Control Act, as amended, and the federal CAA, 42 U.S.C.A. Section 7401, et seq., as amended.” Section 9-5-1-3(E) states “any member of the Board who has a conflict of interest regarding a matter before the Board shall disqualify himself or herself from the discussion and shall abstain from the vote on such matter. A conflict of interest means any interest which may yield, directly or indirectly any monetary or other material benefit to the Board member or the member's spouse or minor child.” These sections are wholly consistent with the requirements found in CAA section 128(a)(1) and (2) as outlined in Section I(B) of this document titled “State Boards.” Further analysis and details of the revisions are included in the TSD for this rulemaking.

Therefore, EPA finds that these revisions are consistent with federal requirements, and also are consistent with what is currently in the New Mexico SIP for Albuquerque/Bernalillo County (see 40 CFR 52.1620, paragraph (e)—EPA Approved Nonregulatory Provisions).

For Exhibit 6c, only Section 30-32 of the Exhibit—Joint Air Quality Control Board, is part of the State Boards submittal. The revisions in Exhibit 6c, specifically section 30-32—Joint Air Quality Control Board, establish the creation and authority of the Board, also include the provisions regarding conflict of interest (as discussed above for Exhibit 5c), and are consistent with federal requirements and what is currently in the New Mexico SIP for Albuquerque/Bernalillo County.

For Exhibit 8c, Article 3: Conflict of Interest Ordinance, the revisions to the SIP include renumbering and clarification of the purpose of definitions, meaning that for the purpose of the ordinance, the definitions contained in the ordinance shall apply unless the context clearly indicates or requires a different meaning. The Conflict of Interest Ordinance is already contained in the SIP, therefore, these revisions add clarity and are approvable by EPA. For example, the Conflict of Interest Ordinance (Exhibit 8c) outlines conflict of interest provisions for employees and former employees, and includes details on the prohibition on nepotism and restrictions on outside employment. The 1985 version of this ordinance is currently SIP-approved (see 64 FR 29235).

For Exhibit 9c, Charter of the City of Albuquerque, Article XII: Code of Ethics, Section 4—Conflict of Interest, the ordinance clearly outlines conflict of interest provisions for officials, and includes details on the prohibition on gifts and private financial interest. The previous version of this ordinance (Article XII: Code of Ethics, adopted in 1989) is currently SIP-approved. Therefore, only redlines and strikeouts to Section 4 of that ordinance are submitted as revisions (please see the TSD for this action). The addition of Section 4(b) to the ordinance outlines the prohibition on a member of the City Council from participating in any debate or vote on any matter which will likely result in any benefit to the member which benefit is greater that the benefit to the public in general. The other key revision adds specific criteria for disqualifications as presented in Section 4(c). Both the addition of subsections 4(b) and 4(c) enhance the ordinance by adding further clarity and stringency to the conflict of interest requirements. Section 128 of the CAA states that a State may adopt any requirements respecting conflicts of interest for such boards or bodies or heads of executive agencies, which are more stringent, and the Administrator shall approve any such requirement as submitted. Other revisions are ministerial in nature and mostly involve renumbering and additions/deletions that add clarity (please see the TSD for details).

For Exhibit 10c, Bernalillo County, New Mexico, Code of Ordinances, Chapter 2—Administration, Article III—Officers and Employees, Division 4—Code of Ethics, the Bernalillo County Commission Ordinance, revises the SIP-approved version (previously Ordinance 85-3) to further enhance the requirements pursuant to section 128 of the CAA. This Code of Ethics Ordinance establishes a code of ethics for all elected officials and employees and volunteers of county government, including members of boards, committees and commissions. For example, in Section 2-130—Standards of conduct, the ordinance clearly indicates that the standards of conduct apply to elected officials, employees and volunteers at all times. Section 128 of the CAA does not require volunteers to be subject to the conflict of interest provisions, and adding them makes the ordinance more stringent. Additionally, the ordinance requires such candidates, elected officials, employees, and volunteers to disclose personal interests, financial or otherwise, in matters of the county. Other revisions include establishing a declaration of policy section, (Section 2-127), standards of conduct including conflict of interest (Section 2-130), disclosure of certain financial interests (Section 2-131), reporting violations of code of ethics (Section 2-132), and Ethics Board requirements. These revisions enhance the current SIP-approved version, which focused on elected officials and employees and did not specifically identify volunteers as well. EPA considers these revisions more stringent than the requirements pursuant to section 128 of the CAA, and are approvable.

Additionally, CAA section 110(l) states that the EPA cannot approve a SIP revision if that revision would interfere with any applicable requirement regarding attainment, reasonable further progress (RFP) or any requirement established in the CAA. The revisions do not interfere with any applicable requirement, but enhance the current SIP-approved version as discussed above. Additionally, approvability of these actions are also based upon EPA's guidance for state boards and conflict of interest provisions as discussed in the TSD for this rulemaking.

EPA approves the revisions and updates for Exhibits 5c, 6c, 8c, 9c and 10c pursuant to section 110 of the CAA, and has determined they are consistent with the requirements in section 128(a) of the CAA.

IV. Final Action

Pursuant to section 110 of the Act, EPA is approving through a direct final action, revisions to the New Mexico SIP that were submitted on June 12, 2013. We evaluated the state's submittal and determined that they meet the applicable requirements of the CAA section 128(a). Also, in accordance with CAA section 110(l), the proposed revisions will not interfere with attainment of the NAAQS, reasonable further progress, or any other applicable requirement of the CAA.

EPA is publishing this rule without prior proposal because we view these as non-controversial amendments and anticipate no adverse comments. However, in the proposed rules section of this Federal Register publication, we are publishing a separate document that will serve as the proposal to approve the SIP revision if relevant adverse comments are received. This rule will be effective on December 21, 2015 without further notice unless we receive relevant adverse comments by November 19, 2015. If we receive relevant adverse comments, we will publish a timely withdrawal of this direct final rulemaking in the Federal Register informing the public that the direct final rule will not take effect. We will address all public comments in a subsequent final rule based on the proposed rule. We will not institute a second comment period on this action. Any parties interested in commenting must do so now. Please note that if we receive adverse comment on an amendment, paragraph, or section of this rule and if that provision may be severed from the remainder of the rule, we may adopt as final those provisions of the rule that are not the subject of an adverse comment.

V. Statutory and Executive Order Reviews

Under the CAA, the Administrator is required to approve a SIP submission that complies with the provisions of the Act and applicable federal regulations. 42 U.S.C. 7410(k); 40 CFR 52.02(a). Thus, in reviewing SIP submissions, EPA's role is to approve state choices, provided that they meet the criteria of the CAA. Accordingly, this action merely proposes to approve state law as meeting federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 21, 2015. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Incorporation by reference, Intergovernmental relations, Nitrogen dioxides, Ozone, Particulate matter, Reporting and recordkeeping requirements, Volatile organic compounds.

Authority: 42 U.S.C. 7401 et seq.

Dated: September 30, 2015.
Ron Curry,
Regional Administrator, Region 6.

40 CFR part 52 is amended as follows:

PART 52—APPROVAL AND PROMULGATION OF IMPLEMENTATION PLANS

1. The authority citation for part 52 continues to read as follows:

Authority: 42 U.S.C. 7401 et seq.

Subpart GG—New Mexico

2. In § 52.1620(e):

a. The first table entitled “EPA-Approved New Mexico Statutes in the Current New Mexico SIP” is amended by revising all entries in the table under the heading “EPA Approved City of Albuquerque and Bernalillo County Ordinances for State Board Composition and Conflict of Interest Provisions”; and

b. The second table entitled “EPA-Approved Nonregulatory Provisions and Quasi-Regulatory Measures in the New Mexico SIP” is amended by adding entry “City of Albuquerque request for redesignation” before the entry entitled “Waiver of NOX control requirements.”.

The addition and revisions read as follows:

§ 52.1620 Identification of plan.

* * * * *

(e) * * *

EPA-Approved New Mexico Statutes in the Current New Mexico SIP
State citation | Title/subject | State approval/ effective date | EPA approval date | Comments
* * * * * * *
EPA Approved City of Albuquerque and Bernalillo County Ordinances for State Board Composition and Conflict of Interest Provisions
City of Albuquerque, Chapter 9, Article 5, Part 1: Air Quality Control Board, Sections 9-5-1-1 to 9-5-1-15, and 9-5-1-98 | Joint Air Quality Control Board | 06/12/2013 | 10/20/2015, [Insert Federal Register citation | Section 9-5-1-3 Joint Air Quality Control Board only.
Bernalillo County, Code of Ordinances, Chapter 30, Article II, Air Pollution; Section 30-31 to 30-47 | Joint Air Quality Control Board | 06/12/2013 | 10/20/2015, [Insert Federal Register citation | Section 30-32—Joint Air Quality Control Board only.
City of Albuquerque, Chapter 2, Article III, Sections 3-3-1 to 3-3-13 | Conflict of Interest | 06/12/2013 | 10/20/2015, [Insert Federal Register citation
City of Albuquerque Charter, Article XII, Section 4—Conflict of Interest | Code of Ethics | 06/12/2013 | 10/20/2015, [Insert Federal Register citation
Bernalillo County Ordinance, Chapter 2, Administration, Article III, Officers and Employees, Division 4, Code of Ethics, Sections 2-126 to 2-136 | Code of Ethics | 06/12/2013 | 10/20/2015, [Insert Federal Register citation]

EPA-Approved Nonregulatory Provisions and Quasi-Regulatory Measures in the New Mexico SIP
Name of SIP provision | Applicable geographic or nonattainment area | State submittal/ effective date | EPA approval date | Explanation
* * * * * * *
City of Albuquerque request for redesignation | Carbon monoxide maintenance plan and motor vehicle emission budgets | 06/22/1998 | 5/24/2000, 65 FR 33460 |
* * * * * * *

[FR Doc. 2015-26306 Filed 10-19-15; 8:45 am]

BILLING CODE 6560-50-P